DEPARTMENT OF COMMERCE

Bureau of Industry and Security

15 CFR Part 744

[Docket No. 230221-0048]

RIN 0694-AJ11

Additions of Entities to the Entity List; Revisions of Entities on the Entity List

AGENCY: Bureau of Industry and Security, Department of Commerce.

ACTION: Final rule.

SUMMARY: The Department of Commerce is amending the Export Administration Regulations (EAR) by adding seventy-six entities to the Entity List. These entities have been determined by the U.S. Government to be acting contrary to the national security or foreign policy interests of the United States and are listed on the Entity List under the destination of Russia. This rule also revises four existing entries on the Entity List under the destination of Russia.

DATES: This rule is effective February 24, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add 3DiVi, AO Papilon, IT-Papillon OOO, OOO Adis, and Papilon Limited Liability Company to the Entity List under the destination of Russia. These entities are added for their involvement in activities that are contrary to the foreign policy interests of the United States under § 744.11, including but not limited to providing support for Russia's filtration operations in occupied areas of Ukraine, which include the use of biometric technology in suppressing Ukrainian resistance and enforcing loyalty among the Ukrainian population in occupied areas. For these five entities, BIS imposes a license requirement for all items subject to the EAR and will review license applications under a presumption of denial.

The ERC determined to add Joint Stock Company Elektron Optronik, Joint Stock Company Zelenograd Nanotechnology Center, Public Joint Stock Company Kremny, Technopark Skolkovo Limited Liability Company, and VisionLabs Limited Liability Company to the Entity List under the destination of Russia for acquiring and attempting to acquire U.S.-origin items in support of activities contrary to U.S. national security and foreign policy interests. This activity is contrary to U.S. national security and foreign policy interests under § 744.11. For these five entities, BIS imposes a license requirement for all items subject to the EAR and will review license applications under a policy of denial.

The End-User Review Committee determined to add the following sixty-six Russian entities to the Entity List for acquiring and attempting to acquire U.S.-origin items in support of Russia's military: Advanced Research Foundation; Federal Service for Military-Technical Cooperation; Federal State Budgetary Scientific Institution Research and Production Complex Technology Center; Federal State Institution Federal Scientific Center Scientific Research Institute for System Analysis of the Russian Academy of Sciences; Joint Stock Company All Russian Research Institute of Radio Engineering; Joint Stock Company All-Russian Research Institute Signal; Joint Stock Company Center of Research and Technology Services Dinamika; Joint Stock Company Concern Avtomatika; Joint Stock Company Design Center Soyuz; Joint Stock Company Design Technology Center Elektronika; Joint Stock Company Institute for Scientific Research Microelectronic Equipment Progress; Joint Stock Company Kizlyar Electromechanical Plant; Joint Stock Company Machine-Building Engineering Office Fakel Named After Akademika P.D. Grushina; Joint Stock Company North Western Regional Center of Almaz Antey Concern Obukhovsky Plant; Joint Stock Company Penza Electrotechnical Research Institute; Joint Stock Company Production Association Sever; Joint Stock Company Production Association Ural Optical and Mechanical Plant Named After E.S. Yalamov; Joint Stock Company Ramenskoye Design Company; Joint Stock Company Research and Production Association Named After S.A. Lavochkina; Joint Stock Company Research and Production Association of Measuring Equipment; Joint Stock Company Research and Production Enterprise Radar MMS; Joint Stock Company Research and Production Enterprise Sapfir; Joint Stock Company Research Center ELINS; Joint Stock Company RT-Tekhpriemka; Joint Stock Company Russian Research Institute Electronstandart; Joint Stock Company Ryazan Plant of Metal Ceramic Instruments; Joint Stock Company Scientific Production Enterprise Digital Solutions; Joint Stock Company Scientific Production Enterprise Kontakt; Joint Stock Company Scientific Production Enterprise Topaz; Joint Stock Company Scientific Research Institute Giricond; Joint Stock Company Scientific Research Institute of Computer Engineering NII SVT; Joint Stock Company Scientific Research Institute of Electrical Carbon Products; Joint Stock Company Scientific Research Institute of Electronic and Mechanical Devices; Joint Stock Company Scientific Research Institute of Electronic Engineering Materials; Joint Stock Company Scientific Research Institute of Gas Discharge Devices Plasma; Joint Stock Company Scientific Research Institute of Industrial Television Rastr; Joint Stock Company Scientific Research Institute of Precision Mechanical Engineering; Joint Stock Company Shipbuilding Corporation Ak Bars; Joint Stock Company Special Design Bureau of Computer Engineering; Joint Stock Company Special Design Bureau of Control Means; Joint Stock Company Special Design Bureau Turbina; Joint Stock Company Special Relay System Design and Engineering Bureau; Joint Stock Company State Missile Center Named After Akademika V.P. Makeyeva; Joint Stock Company State Scientific Research Institute Kristall; Joint Stock Company Svetlana Semiconductors; Joint Stock Company Tekhnodinamika; Joint Stock Company the Institute of Electronic Control Computers Named After I.S. Bruk; Joint Stock Company Vologda Optical and Mechanical Plant; Joint Stock Company Voronezh Semiconductor Devices Factory Assembly; Joint Stock Company Vyatka Machine-Building Enterprise Avitek; KAMAZ Publicly Traded Company; Keldysh Institute of Applied Mathematics of the Russian Academy of Sciences; Limited Liability Company Research and Production Association Radiovolna; Limited Liability Company RSB-Group; Mitishinskiy Scientific Research Institute of Radio Measuring Instruments; Open Joint Stock Company Ilyushin Aviation Complex; Open Joint Stock Company Khabarovsk Radio Engineering Plant; Open Joint Stock Company Mariyskiy Machine-Building Plant; Open Joint Stock Company Scientific and Production Enterprise Pulsar; Public Joint Stock Company Megafon; Public Joint Stock Company Tutaev Motor Plant; Public Joint Stock Company Vympel Interstate Corporation; RT-Inform Limited Liability Company; Skolkovo Foundation; Skolkovo Institute of Science and Technology; and State Flight Testing Center Named After V.P. Chkalov). These entities' acquisition and attempts to acquire U.S.-origin items in support of Russia's military are contrary to U.S. national security and foreign policy interests under § 744.11 and these entities qualify as military end users under § 744.21 of the EAR. These entities are receiving a footnote 3 designation because the ERC has determined that they are Russian or Belarusian 'military end users' pursuant to § 744.21. A footnote 3 designation subjects these entities to the Russia/Belarus-Military End User Foreign Direct Product (FDP) rule, detailed in § 734.9(g). Five of the entities (Federal State Budgetary Scientific Institution Research and Production Complex Technology Center; Joint Stock Company Research and Production Association Named After S.A. Lavochkina; Joint Stock Company Research and Production Association of Measuring Equipment; Joint Stock Company Scientific Research Institute of Industrial Television Rastr; and Joint Stock Company State Missile Center Named After Akademika V.P. Makeveva (GRTS Makevev)) have a license requirement for all items subject to the EAR. For these five entities, License Exception GOV is available for use pursuant to § 740.11(b)(2) and (e). The license review policy for these five entities is a policy of denial for all items subject to the EAR other than food and medicine designated as EAR99 and for items for U.S. Government-supported use in the International Space Station (ISS), which will be reviewed on a case-by-case basis. The remaining sixty-one entities are added with a license requirement for all items subject to the EAR and a license review policy of denial.

For the reasons described above, this final rule adds the following seventy-six entities to the Entity List and includes, where appropriate, aliases:

Russia

• 3DiVi OOO,

• Advanced Research Foundation,

• AO Papilon,

• Federal Service for Military-Technical Cooperation;

• Federal State Budgetary Scientific Institution Research and Production Complex Technology Center;

• Federal State Institution Federal Scientific Center Scientific Research Institute for System Analysis of the Russian Academy of Sciences;

• IT-Papillon OOO,

• Joint Stock Company All Russian Research Institute of Radio Engineering;

• Joint Stock Company All-Russian Research Institute Signal;

• Joint Stock Company Center of Research and Technology Services Dinamika;

• Joint Stock Company Concern Avtomatika;

• Joint Stock Company Design Center Soyuz;

• Joint Stock Company Design Technology Center Elektronika;

• Joint Stock Company Elektron Optronik,

• Joint Stock Company Institute for Scientific Research Microelectronic Equipment Progress;

• Joint Stock Company Kizlyar Electromechanical Plant;

• Joint Stock Company Machine-Building Engineering Office Fakel Named After Akademika P.D. Grushina;

• Joint Stock Company North Western Regional Center of Almaz Antey Concern Obukhovsky Plant;

• Joint Stock Company Penza Electrotechnical Research Institute;

• Joint Stock Company Production Association Sever;

• Joint Stock Company Production Association Ural Optical and Mechanical Plant Named After E.S. Yalamov;

• Joint Stock Company Ramenskoye Design Company;

• Joint Stock Company Research and Production Association Named After S.A. Lavochkina;

• Joint Stock Company Research and Production Association of Measuring Equipment;

• Joint Stock Company Research and Production Enterprise Radar MMS;

• Joint Stock Company Research and Production Enterprise Sapfir;

• Joint Stock Company Research Center ELINS;

• Joint Stock Company RT-Tekhpriemka;

• Joint Stock Company Russian Research Institute Electronstandart;

• Joint Stock Company Ryazan Plant of Metal Ceramic Instruments;

• Joint Stock Company Scientific Production Enterprise Digital Solutions;

• Joint Stock Company Scientific Production Enterprise Kontakt;

• Joint Stock Company Scientific Production Enterprise Topaz;

• Joint Stock Company Scientific Research Institute Giricond;

• Joint Stock Company Scientific Research Institute of Computer Engineering NII SVT;

• Joint Stock Company Scientific Research Institute of Electrical Carbon Products;

• Joint Stock Company Scientific Research Institute of Electronic and Mechanical Devices;

• Joint Stock Company Scientific Research Institute of Electronic Engineering Materials;

• Joint Stock Company Scientific Research Institute of Gas Discharge Devices Plasma;

• Joint Stock Company Scientific Research Institute of Industrial Television Rastr;

• Joint Stock Company Scientific Research Institute of Precision Mechanical Engineering;

• Joint Stock Company Shipbuilding Corporation Ak Bars;

• Joint Stock Company Special Design Bureau of Computer Engineering;

• Joint Stock Company Special Design Bureau of Control Means;

• Joint Stock Company Special Design Bureau Turbina;

• Joint Stock Company Special Relay System Design and Engineering Bureau;

• Joint Stock Company State Missile Center Named After Akademika V.P. Makeyeva;

• Joint Stock Company State Scientific Research Institute Kristall;

• Joint Stock Company Svetlana Semiconductors;

• Joint Stock Company Tekhnodinamika;

• Joint Stock Company the Institute of Electronic Control Computers Named After I.S. Bruk;

• Joint Stock Company Vologda Optical and Mechanical Plant;

• Joint Stock Company Voronezh Semiconductor Devices Factory Assembly;

• Joint Stock Company Vyatka Machine-Building Enterprise Avitek;

• Joint Stock Company Zelenograd Nanotechnology Center,

• KAMAZ Publicly Traded Company;

• Keldysh Institute of Applied Mathematics of the Russian Academy of Sciences;

• Limited Liability Company Research and Production Association Radiovolna;

• Limited Liability Company RSB-Group;

• Mitishinskiy Scientific Research Institute of Radio Measuring Instruments;

• OOO Adis,

• Open Joint Stock Company Ilyushin Aviation Complex;

• Open Joint Stock Company Khabarovsk Radio Engineering Plant;

• Open Joint Stock Company Mariyskiy Machine-Building Plant;

• Open Joint Stock Company Scientific and Production Enterprise Pulsar;

• Papilon Systems Limited Liability Company,

• Public Joint Stock Company Kremny,

• Public Joint Stock Company Megafon;

• Public Joint Stock Company Tutaev Motor Plant;

• Public Joint Stock Company Vympel Interstate Corporation;

• RT-Inform Limited Liability Company;

• Skolkovo Foundation;

• Skolkovo Institute of Science and Technology;

• State Flight Testing Center Named After V.P. Chkalov;

• Technopark Skolkovo Limited Liability Company, and

• VisionLabs Limited Liability Company.

Revisions to the Entity List

The ERC determined to modify four entities (Concern Radio-Electronic Technologies, Public Joint Stock Company Moscow Institute of Electro Mechanics and Automation; Meteor Plant; Moscow Institute of Thermal Technology; and Obninsk Research and Production Enterprise) on the Entity List under the destination of Russia by revising the aliases, addresses and license requirement for these entries. Four additional aliases are being added to the entry for Concern Radio-Electronic Technologies, Public Joint Stock Company Moscow Institute of Electro Mechanics and Automation; two aliases are being added to the entry for Meteor Plant JSC, three additional aliases are being added to the entry for Moscow Institute of Thermal Technology, and two aliases are being added to the entry for Obninsk Research and Production Enterprise (ORPE). The addresses for the four entities are also being revised for clarification purposes only. The license requirement for all four entities is being revised to read “Policy of denial” as these entities have acquired and attempted to acquire U.S.-origin items in support of Russia's military.

Savings Clause

For the changes being made in this final rule, shipments of items removed from eligibility for a License Exception or export, reexport, or transfer (in-country) without a license (NLR) as a result of this regulatory action that were en route aboard a carrier to a port of export, reexport, or transfer (in-country), on February 24, 2023, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects

15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended under RUSSIA by:

a. Adding in alphabetical order, entries for “3DiVi OOO;” “Advanced Research Foundation;” “AO Papilon;”;

b. Revising the entry for “Concern Radio-Electronic Technologies”;

c. Adding in alphabetical order, entries for “Federal Service for Military-Technical Cooperation;” “Federal State Budgetary Scientific Institution Research and Production Complex Technology Center;” “Federal State Institution Federal Scientific Center Scientific Research Institute for System Analysis of the Russian Academy of Sciences;” “IT-Papillon OOO;” “Joint Stock Company All Russian Research Institute of Radio Engineering;” “Joint Stock Company All-Russian Research Institute Signal;” “Joint Stock Company Center of Research and Technology Services Dinamika;” “Joint Stock Company Concern Avtomatika;” “Joint Stock Company Design Center Soyuz;” “Joint Stock Company Design Technology Center Elektronika;” “Joint Stock Company Elektron Optronik;” “Joint Stock Company Institute for Scientific Research Microelectronic Equipment Progress;” “Joint Stock Company Kizlyar Electromechanical Plant;” “Joint Stock Company Machine-Building Engineering Office Fakel Named After Akademika P.D. Grushina”; “Joint Stock Company North Western Regional Center of Almaz Antey Concern Obukhovsky Plant;” Joint Stock Company Penza Electrotechnical Research Institute;” “Joint Stock Company Production Association Sever;” “Joint Stock Company Production Association Ural Optical and Mechanical Plant Named After E.S. Yalamov;” Joint Stock Company Ramenskoye Design Company;” “Joint Stock Company Research and Production Association Named After S.A. Lavochkina; “Joint Stock Company Research and Production Association of Measuring Equipment;” “Joint Stock Company Research and Production Enterprise Radar MMS;” “Joint Stock Company Research and Production Enterprise Sapfir;” “Joint Stock Company Research Center ELINS;” “Joint Stock Company RT-Tekhpriemka;” “Joint Stock Company Russian Research Institute Electronstandart;” “Joint Stock Company Ryazan Plant of Metal Ceramic Instruments;” “Joint Stock Company Scientific Production Enterprise Digital Solutions;” “Joint Stock Company Scientific Production Enterprise Kontakt;” “Joint Stock Company Scientific Production Enterprise Topaz;” “Joint Stock Company Scientific Research Institute Giricond;” “Joint Stock Company Scientific Research Institute of Computer Engineering NII SVT;” “Joint Stock Company Scientific Research Institute of Electrical Carbon Products;” “Joint Stock Company Scientific Research Institute of Electronic and Mechanical Devices;” “Joint Stock Company Scientific Research Institute of Electronic Engineering Materials;” “Joint Stock Company Scientific Research Institute of Gas Discharge Devices Plasma;” “Joint Stock Company Scientific Research Institute of Industrial Television Rastr;” “Joint Stock Company Scientific Research Institute of Precision Mechanical Engineering;” “Joint Stock Company Shipbuilding Corporation Ak Bars;” “Joint Stock Company Special Design Bureau of Computer Engineering;” “Joint Stock Company Special Design Bureau of Control Means;” Joint Stock Company Special Design Bureau Turbina;” “Joint Stock Company Special Relay System Design and Engineering Bureau;” “Joint Stock Company State Missile Center Named After Akademika V.P. Makeyeva;” “Joint Stock Company State Scientific Research Institute Kristall;” “Joint Stock Company Svetlana Semiconductors;” “Joint Stock Company Tekhnodinamika;” “Joint Stock Company the Institute of Electronic Control Computers Named After I.S. Bruk;” “Joint Stock Company Vologda Optical and Mechanical Plant;” “Joint Stock Company Voronezh Semiconductor Devices Factory Assembly;” “Joint Stock Company Vyatka Machine-Building Enterprise Avitek;” “Joint Stock Company Zelenograd Nanotechnology Center”; “KAMAZ Publicly Traded Company;” “Keldysh Institute of Applied Mathematics of the Russian Academy of Sciences;” “Limited Liability Company Research and Production Association Radiovolna;” and “Limited Liability Company RSB-Group”;

d. Revising the entry for “Meteor Plant JSC”;

e. Adding in alphabetical order, an entry for “Mitishinskiy Scientific Research Institute of Radio Measuring Instruments”;

f. Revising the entries for “Moscow Institute of Thermal Technology” and “Obninsk Research and Production Enterprise (ORPE)”; and

g. Adding in alphabetical order, entries for “OOO Adis;” “Open Joint Stock Company Ilyushin Aviation Complex;” “Open Joint Stock Company Khabarovsk Radio Engineering Plant;” “Open Joint Stock Company Mariyskiy Machine-Building Plant;” “Open Joint Stock Company Scientific and Production Enterprise Pulsar;” “Papilon Limited Liability Company;” “Public Joint Stock Company Kremny”; “Public Joint Stock Company Megafon;” “Public Joint Stock Company Tutaev Motor Plant;” “Public Joint Stock Company Vympel Interstate Corporation;” “RT-Inform Limited Liability Company;” “Skolkovo Foundation;” “Skolkovo Institute of Science and Technology;” “State Flight Testing Center Named After V.P. Chkalov;” “Technopark Skolkovo Limited Liability Company;” and “VisionLabs Limited Liability Company.”

The additions and revisions read as follows:

Supplement No. 4 to Part 744—Entity List

* * * * *

Country | Entity | License requirement | License review policy | Federal Register citation
* * * * * * *
RUSSIA | 3DiVi OOO, a.k.a., the following one alias: —Tridivi LLC. 64-d Lenin Ave., 6th floor, Chelyabinsk, 454080, Russia; and 48 Prospekt Makeeva, Miass, Chelyabinskaya Oblast, 4563200, Russia. | For all items subject to the EAR. (See § 744.11 of the EAR) | Presumption of denial | 88 FR [INSERT FR PAGE NUMBER AND 2/27/2023].
| * * * * * *
| Advanced Research Foundation, a.k.a., the following two aliases: —Fond Perspektivnykh Issledovaniy; and —FPI. | For all items subject to the EAR. (See §§ 734.9(g),³ 746.8(a)(3), and 744.21(b) of the EAR) | Policy of denial | 88 FR [INSERT FR PAGE NUMBER AND 2/27/2023].
| 22 Berezhkovskaya Embankment, Building 3, Moscow, 121059, Russia.
| * * * * * *
| AO Papilon, a.k.a., the following one alias: —Aktsionernoe Obshchestvo Papilon. 48 Prospekt Makeeva, Miass, Chelyabinskaya Oblast, 4563200, Russia; and 63 Novocheremushkinskaya Str., Bld. 1, Moscow, 117418, Russia. | For all items subject to the EAR. (See § 744.11 of the EAR) | Presumption of denial | 88 FR [INSERT FR PAGE NUMBER AND 2/27/2023].
| * * * * * *
| Concern Radio-Electronic Technologies, Public Joint Stock Company Moscow Institute of Electro Mechanics and Automation, a.k.a., the following five aliases: | For all items subject to the EAR. (See §§ 734.9(g),³ 746.8(a)(3), and 744.21(b) of the EAR) | Policy of denial | 87 FR 34157, 6/6/22. 88 FR [INSERT FR PAGE NUMBER AND 2/27/2023].
| —Joint Stock Company Moscow Institute of Electromechanics and Automatics;
| —MIEA JSC;
| —Moscow Institute of Electromechanics and Automatics PJSC;
| —Moskovskiy Institute Elektromekhaniki I Avtomatiki; and
| —PAO MIEA.
| 5 Aviation Lane, Moscow, 125167, Russia.
| * * * * * *
| Federal Service for Military-Technical Cooperation, a.k.a., the following four aliases: —Federalnaya Sluzhba po Voenno-Tekhnicheskomu Sotrudnishestvu; —FSMTC; | For all items subject to the EAR. (See §§ 734.9(g),³ 746.8(a)(3), and 744.21(b) of the EAR) | Policy of denial | 88 FR [INSERT FR PAGE NUMBER AND 2/27/2023].
| —FSVTS; and
| —FSVTS Rossii.
| 18/1 Ovchinnikovskaya Embankment, Moscow, 115035, Russia.
| * * * * * *
| Federal State Budgetary Scientific Institution Research and Production Complex Technology Center, a.k.a., the following five aliases: —Federalnoe Gosudarstvennoe Byudzhetnoe Nauchnoe Uchrezhdenie Nauchno-Proizvodstvenny Kompleks Tekhnologicheskiy Tsentr —NPK Technological Center; —NPKTS; —Scientific Manufacturing Complex Technological Center; and —SMC Technological Center. | For all items subject to the EAR. (See §§ 734.9(g),³ 746.8(a)(3), and 744.21(b) of the EAR) This license requirement may be overcome by License Exception GOV under § 740.11(b)(2) and (e) | Policy of denial for all items subject to the EAR apart from food and medicine designated as EAR99 and for items for U.S. Government supported use in the International Space Station (ISS), which will be reviewed on a case-by-case basis. See §§ 746.8(b) and 744.21(e) | 88 FR [INSERT FR PAGE NUMBER AND 2/27/2023].
| 1 Shokina Square, Building 7, Office 7237, Zelenograd, Moscow, 124498, Russia.
| Federal State Institution Federal Scientific Center Scientific Research Institute for System Analysis of the Russian Academy of Sciences, a.k.a., the following four aliases: | For all items subject to the EAR. (See §§ 734.9(g),³ 746.8(a)(3), and 744.21(b) of the EAR) | Policy of denial | 88 FR [INSERT FR PAGE NUMBER AND 2/27/2023].
| —Federalnoe Gosudarstvennoe Uchrezhdenie Federalnyy Nauchnyy Tsentr Nauchno-Issledovatelskiy Institut Sistemnykh Issledovaniy Rossiyskoy Akademii Nauk;
| —FGU FNTS NIISI RAN;
| —FSI FSC SRISA RAS; and
| —Scientific Research Institute of System Analysis, Russian Academy of Sciences.
| 36 Nakhimovskiy Avenue, Building 1, Moscow, 117218, Russia.
| * * * * * *
| IT-Papillon OOO, a.k.a., the following one alias: —Papillon Information Technologies LLC. 48 Prospekt Makeeva, Miass, Chelyabinskaya Oblast, 4563200, 4563200, Russia. | For all items subject to the EAR. (See § 744.11 of the EAR) | Presumption of denial | 88 FR [INSERT FR PAGE NUMBER AND 2/27/2023].
| * * * * * *
| Joint Stock Company All Russian Research Institute of Radio Engineering, a.k.a., the following three aliases: —AO Vserossiyskiy Nauchno-Issledovatelskiy Institut Radiotekhniki; | For all items subject to the EAR. (See §§ 734.9(g),³ 746.8(a)(3), and 744.21(b) of the EAR) | Policy of denial | 88 FR [INSERT FR PAGE NUMBER AND 2/27/2023].
| —JSC Vserossiyskiy Institute for Scientific Research Radiotekhniki; and
| —VNIIRT.
| 22 Bolshaya Pochtovaya Street, Building 8, Moscow, 105082, Russia.
| Joint Stock Company All-Russian Research Institute Signal, a.k.a., the following four aliases: —AO Vserossiyskiy Nauchno-Issledovatelskiy Institut Signal; | For all items subject to the EAR. (See §§ 734.9(g),³ 746.8(a)(3), and 744.21(b) of the EAR) | Policy of denial | 88 FR [INSERT FR PAGE NUMBER AND 2/27/2023].
| —AO VNII Signal;
| —JSC VNII Signal; and
| —OJSC All-Russian Research Institute Signal.
| 57 Krupskoy Street, Kovrov, Vladimir Oblast, 601903, Russia.
| * * * * * *
| Joint Stock Company Center of Research and Technology Services Dinamika, a.k.a., the following three aliases: —AO TSNTU Dinamika; —AO Tsentr Nauchno-Tekhnicheskikh Uslug Dinamika; and | For all items subject to the EAR. (See §§ 734.9(g),³ 746.8(a)(3), and 744.21(b) of the EAR) | Policy of denial | 88 FR [INSERT FR PAGE NUMBER AND 2/27/2023].
| —JSC Center for Scientific and Technical Services Dinamika.
| 9/18 Shkolnaya Street, Zhukovskiy, Moscow Oblast, 140184, Russia.
| * * * * * *
| Joint Stock Company Concern Avtomatika, a.k.a., the following three aliases: —AO Kontsern Avtomatika; —JSC Concern Automation; and | For all items subject to the EAR. (See §§ 734.9(g),³ 746.8(a)(3), and 744.21(b) of the EAR) | Policy of denial | 88 FR [INSERT FR PAGE NUMBER AND 2/27/2023].
| —OJSC Kontsern Avtomatika.
| 25 Botanicheskaya Street, Premises 1, Moscow, 127106, Russia.
| * * * * * *
| Joint Stock Company Design Center Soyuz, a.k.a., the following one alias: —AO Dizain Tsentr Soyuz. 14 Konstruktora Lukina Street, Building 1, Zelenograd, Moscow, 124482, Russia; and K. 100, Kom. 205, Zelenograd, Moscow, 124482, Russia. | For all items subject to the EAR. (See §§ 734.9(g),³ 746.8(a)(3), and 744.21(b) of the EAR) | Policy of denial | 88 FR [INSERT FR PAGE NUMBER AND 2/27/2023].
| Joint Stock Company Design Technology Center Elektronika, a.k.a., the following five aliases: —AO KTTS Elektronika; —AO Konstruktorsko-Tekhnologicheskiy Tsentr Elektronika; | For all items subject to the EAR. (See §§ 734.9(g),³ 746.8(a)(3), and 744.21(b) of the EAR) | Policy of denial | 88 FR [INSERT FR PAGE NUMBER AND 2/27/2023].
| —JSC Electronics EDC;
| —JSC Electronics Engineering and Design Center; and
| —JSC Elektronika Engineering and Design Center.
| 119A Leninskiy Prospekt, Building 17a, 2nd Floor, Voronezh, 394033, Russia.
| Joint Stock Company Elektron Optronik, a.k.a., the following six aliases: —AO Tsentralniy Nauchno-Issledovatelskiy Institut Elektron; | For all items subject to the EAR. (See § 744.11 of the EAR) | Policy of denial | 88 FR [INSERT FR PAGE NUMBER AND 2/27/2023].
| —AO Elektron Optronik;
| —Elektron Optronik PAO;
| —JSC Central Scientific-Research Institute Elektron;
| —JSC Elektron Optronik; and
| —JSC TSII Elektron.
| 68 Toreza Avenue, Saint Petersburg, 194223, Russia.
| * * * * * *
| Joint Stock Company Institute for Scientific Research Microelectronic Equipment Progress, a.k.a., the following four aliases: —AO NIIMA Progress; —Microelectronics Research Institute Progress JSC; | For all items subject to the EAR. (See §§ 734.9(g),³ 746.8(a)(3), and 744.21(b) of the EAR) | Policy of denial | 88 FR [INSERT FR PAGE NUMBER AND 2/27/2023].
| —Nauchno-Issledovatelskiy Institut Mikroelektronnoiy Apparatury Progress; and
| —Progress MRI JSC.
| 54 Cherepanovykh Drive, Moscow, 125183, Russia.
| * * * * * *
| Joint Stock Company Kizlyar Electromechanical Plant, a.k.a., the following three aliases: —AO Concern KEMZ; —JSC Kontsern Kizlyarskii Elektromekhanicheskii Zavod; and | For all items subject to the EAR. (See §§ 734.9(g),³ 746.8(a)(3), and 744.21(b) of the EAR) | Policy of denial | 88 FR [INSERT FR PAGE NUMBER AND 2/27/2023].
| —Kizlyar Electro-Mechanical Plant.
| 1 Kutuzova Street, Kizlyar, 368870, Dagestan Republic, Russia.
| * * * * * *
| Joint Stock Company Machine-Building Engineering Office Fakel Named After Akademika P.D. Grushina, a.k.a., the following four aliases: | For all items subject to the EAR. (See §§ 734.9(g),³ 746.8(a)(3), and 744.21(b) of the EAR) | Policy of denial | 88 FR [INSERT FR PAGE NUMBER AND 2/27/2023].
| —AO MKB Fakel;
| —Engineering Design Bureau Fakel;
| —JSC EBD Fakel; and
| —Mashinostroitelnoe Konstruktorskoe Byuro Fakel I.M. Akademika P.D. Grushina.
| 33 Akademika Grushina Street, Khimki, Moscow Oblast, 141401, Russia.
| * * * * * *
| Joint Stock Company North Western Regional Center of Almaz Antey Concern Obukhovsky Plant, a.k.a., the following five aliases: | For all items subject to the EAR. (See §§ 734.9(g),³ 746.8(a)(3), and 744.21(b) of the EAR) | Policy of denial | 88 FR [INSERT FR PAGE NUMBER AND 2/27/2023].
| —AO GOZ;
| —AO Severo-Zapadny Regionalny Tsentr Kontserna VKO Almaz-Antei Obukhovsky Zavod;
| —JSC GOZ Obukhov Plant;
| —JSC Obukhovskiy Zavod; and
| —JSC SOP Obukhovskiy Plant.
| 120 Obukhovskoy Oborony Avenue, Building 19, Premises 1-N #708, Saint Petersburg, 190012, Russia.
| * * * * * *
| Joint Stock Company Penza Electrotechnical Research Institute, a.k.a., the following three aliases: —AO Penzenskiy Nauchno- Issledovatelskiy Elektrotekhnicheskiy Institut; | For all items subject to the EAR. (See §§ 734.9(g),³ 746.8(a)(3), and 744.21(b) of the EAR) | Policy of denial | 88 FR [INSERT FR PAGE NUMBER AND 2/27/2023].
| —JSC Penza; and
| —JSC PNIEI.
| 9 Sovetskaya Street, Penza, Penza Oblast, 440026, Russia.
| * * * * * *
| Joint Stock Company Production Association Sever, a.k.a., the following four aliases: —AO PO Sever; —JSC PA Sever; | For all items subject to the EAR. (See §§ 734.9(g),³ 746.8(a)(3), and 744.21(b) of the EAR) | Policy of denial | 88 FR [INSERT FR PAGE NUMBER AND 2/27/2023].
| —JSC PO North; and
| —Proizvodstvennoe Obedinenie Sever.
| 3 Obedineniya Street, Novosibirsk, Novosibirsk Oblast, 630020, Russia.
| Joint Stock Company Production Association Ural Optical and Mechanical Plant Named After E.S. Yalamov, a.k.a., the following four aliases: | For all items subject to the EAR. (See §§ 734.9(g),³ 746.8(a)(3), and 744.21(b) of the EAR) | Policy of denial | 88 FR [INSERT FR PAGE NUMBER AND 2/27/2023].
| —AO Proizvodsvennoe Obedinenie Uralskii Opitko-Mekhanicheskii Zavod;
| —JSC PA UOMP;
| —JSC PO UOMZ; and
| —Ural Optical and Mechanical Plant.
| 33B Vostochnaya Street, Yekaterinburg, Sverdlovsk Oblast, 620100, Russia.
| Joint Stock Company Ramenskoye Design Company, a.k.a., the following four aliases: —AO Ramenskoe Priborostroitelnoe Konstruktorskoe Byuro; | For all items subject to the EAR. (See §§ 734.9(g),³ 746.8(a)(3), and 744.21(b) of the EAR) | Policy of denial | 88 FR [INSERT FR PAGE NUMBER AND 2/27/2023].
| —AO RPKB;
| —JSC Ramenskoe Instrument Design Company; and
| —JSC RDC.
| 2 Guriyeva Street, Ramenskoye, Moscow Oblast, 140103, Russia.
| * * * * * *
| Joint Stock Company Research and Production Association Named After S.A. Lavochkina, a.k.a., the following five aliases: —AO Nauchno-Proizvodstvennoe Obedinenie IM. S.A. Lavochkina; —JSC Lavochkin Science and Production Association; —NPO Imeni S.A. Lavochkina; —NPO Lavochkin; and —S.A. Lavochkin Scientific Production Association. | For all items subject to the EAR. (See §§ 734.9(g),³ 746.8(a)(3), and 744.21(b) of the EAR) This license requirement may be overcome by License Exception GOV under § 740.11(b)(2) and (e) | Policy of denial for all items subject to the EAR apart from food and medicine designated as EAR99 and for items for U.S. Government supported use in the International Space Station (ISS), which will be reviewed on a case-by-case basis. See §§ 746.8(b) and 744.21(e) | 88 FR [INSERT FR PAGE NUMBER AND 2/27/2023].
| 24 Leningradskaya Street, Khimki, Moscow Oblast, 141402, Russia.
| Joint Stock Company Research and Production Association of Measuring Equipment, a.k.a., the following three aliases: —AO NPO IT; —AO Nauchno Proizvodstvennoe Obedinenie Izmeritelnoi Tekhniki; and —JSC NPO IT. 2 Pionerskaya Street, Building 4, Floor 3, Office 344, Korolyov, Moscow Oblast, 141074, Russia. | For all items subject to the EAR. (See §§ 734.9(g),³ 746.8(a)(3), and 744.21(b) of the EAR) This license requirement may be overcome by License Exception GOV under § 740.11(b)(2) and (e) | Policy of denial for all items subject to the EAR apart from food and medicine designated as EAR99 and for items for U.S. Government supported use in the International Space Station (ISS), which will be reviewed on a case-by-case basis. See §§ 746.8(b) and 744.21(e) | 88 FR [INSERT FR PAGE NUMBER AND 2/27/2023].
| * * * * * *
| Joint Stock Company Research and Production Enterprise Radar MMS, a.k.a., the following four aliases: —AO Nauchno-Proizvodstvennoe Predpriyatie Radar MMS; | For all items subject to the EAR. (See §§ 734.9(g),³ 746.8(a)(3), and 744.21(b) of the EAR) | Policy of denial | 88 FR [INSERT FR PAGE NUMBER AND 2/27/2023].
| —JSC Radar MMS;
| —NPP Radar MMS; and
| —Scientific Production Association Radar MMS JSC.
| 37A Novoselkovskaya Street, Saint Petersburg, 197375, Russia.
| Joint Stock Company Research and Production Enterprise Sapfir, a.k.a., the following four aliases: —AO NPP Sapfir; —AO Nauchno-Proizvodstvennoe Predpriyatie Sapfir; | For all items subject to the EAR. (See §§ 734.9(g),³ 746.8(a)(3), and 744.21(b) of the EAR) | Policy of denial | 88 FR [INSERT FR PAGE NUMBER AND 2/27/2023].
| —JSC NPP Sapphire; and
| —JSC Research and Production Company Sapfir.
| 53 Shcherbakovskaya Street, Building 17, Moscow, 105187, Russia.
| Joint Stock Company Research Center ELINS, a.k.a., the following six aliases: —AO Nauchnyy Tsentr ELINS; —ELINS STC JSC; | For all items subject to the EAR. (See §§ 734.9(g),³ 746.8(a)(3), and 744.21(b) of the EAR) | Policy of denial | 88 FR [INSERT FR PAGE NUMBER AND 2/27/2023].
| —JSC ELINS;
| —JSC Scientific and Technical Center ELINS;
| —NTTS ELINS; and
| —Scientific-Technical Center ELINS.
| 10 Panfilovsky Avenue, Zelenograd, Moscow, 124460, Russia.
| Joint Stock Company RT-Tekhpriemka, a.k.a., the following three aliases: —AO RT-Techpriemka; —JSC Aviatekhpriemka; and —JSC RT-Tekhpriemka. | For all items subject to the EAR. (See §§ 734.9(g),³ 746.8(a)(3), and 744.21(b) of the EAR) | Policy of denial | 88 FR [INSERT FR PAGE NUMBER AND 2/27/2023].
| 1 Elektricheskii Lane, Building 12, Moscow, 123557, Russia.
| Joint Stock Company Russian Research Institute Electronstandart, a.k.a., the following four aliases: —AO Nauchno-Proizvodtvennoe Predpriyatie Elektronstandart; | For all items subject to the EAR. (See §§ 734.9(g),³ 746.8(a)(3), and 744.21(b) of the EAR) | Policy of denial | 88 FR [INSERT FR PAGE NUMBER AND 2/27/2023].
| —AO RNII Elektronstandart;
| —JSC NPP Elektrostandart; and
| —RNII Electronstandard.
| 25 Tsvetochnaya Street, Building 3, Saint Petersburg, 196006, Russia.
| Joint Stock Company Ryazan Plant of Metal Ceramic Instruments, a.k.a., the following five aliases: —AO Ryazanski Zavod Metallokeramicheskikh Priborov; —AO RZMKP; | For all items subject to the EAR. (See §§ 734.9(g),³ 746.8(a)(3), and 744.21(b) of the EAR) | Policy of denial | 88 FR [INSERT FR PAGE NUMBER AND 2/27/2023].
| —JSC Ryazan Metal Ceramics Instrumentation Plant;
| —Ryazan Plant of Ceramic Devices; and
| —RMCIP.
| 51V Novaya Street, Ryazan, Ryazan Oblast, 390027, Russia.
| Joint Stock Company Scientific Production Enterprise Digital Solutions, a.k.a., the following five aliases: —ASIC and Electronic Engineering Design Center Digital Solutions JSC; | For all items subject to the EAR. (See §§ 734.9(g),³ 746.8(a)(3), and 744.21(b) of the EAR) | Policy of denial | 88 FR [INSERT FR PAGE NUMBER AND 2/27/2023].
| —AO NPP Tsifrovye Resheniya;
| —DSol NPP;
| —JSC Digital Solutions; and
| —LLC Scientific Production Enterprise Digital Solutions.
| 9a Second Sinichkina Street, Room 4, Office 1, 3rd Floor, Building 7, Moscow 111020, Russia; and A/Ya 18, Moscow, 105066, Russia; and 10 Zavoda Serp I Molot Drive, Moscow, 111250, Russia.
| Joint Stock Company Scientific Production Enterprise Kontakt, a.k.a., the following four aliases: —AO NPP Kontakt; —AO Nauchno-Proizvodstvennoe Predpriyatie Kontakt; | For all items subject to the EAR. (See §§ 734.9(g),³ 746.8(a)(3), and 744.21(b) of the EAR) | Policy of denial | 88 FR [INSERT FR PAGE NUMBER AND 2/27/2023].
| —JSC NPP Kontakt; and
| —JSC SPE Contact.
| 1 Spitsyna Street, Saratov, Saratov Oblast, 410086, Russia.
| Joint Stock Company Scientific Production Enterprise Topaz, a.k.a., the following four aliases: —AO Nauchno-Proizvodstvennoe Predpriyatie Topaz; | For all items subject to the EAR. (See §§ 734.9(g),³ 746.8(a)(3), and 744.21(b) of the EAR) | Policy of denial | 88 FR [INSERT FR PAGE NUMBER AND 2/27/2023].
| —JSC NPP Topaz;
| —Closed Joint-Stock Company Scientific Production Enterprise Topaz; and
| —JSC Research and Production Enterprise Topaz.
| 16 Third Mytishchinskaya Street, Building 34, Moscow, 129626, Russia.
| Joint Stock Company Scientific Research Institute Giricond, a.k.a., the following three aliases: —AO Nauchno-Issledovatelskiy Institut Girikond; | For all items subject to the EAR. (See §§ 734.9(g),³ 746.8(a)(3), and 744.21(b) of the EAR) | Policy of denial | 88 FR [INSERT FR PAGE NUMBER AND 2/27/2023].
| —AO NII Girikond; and
| —Research Institute Girikond.
| 10 Kurchatova Street, Saint Petersburg, 194223, Russia.
| Joint Stock Company Scientific Research Institute of Computer Engineering NII SVT, a.k.a., the following four aliases: —AO NII SVT; —AO Nauchno Issledovatelskii Institut Sredstv Vychislitelnoi Tekhniki; | For all items subject to the EAR. (See §§ 734.9(g),³ 746.8(a)(3), and 744.21(b) of the EAR) | Policy of denial | 88 FR [INSERT FR PAGE NUMBER AND 2/27/2023].
| —JSC NII SVT; and
| —NII SVT PAO.
| 31 Melnichnaya Street, Kirov, Kirov Oblast, 610025, Russia.
| * * * * * *
| Joint Stock Company Scientific Research Institute of Electrical Carbon Products, a.k.a., the following four aliases: —AO NIIEI; —AO Nauchno Issledovatelskii I Proektno-Tekhnologicheskii Institut Elektrougolnykh Izdelii; | For all items subject to the EAR. (See §§ 734.9(g),³ 746.8(a)(3), and 744.21(b) of the EAR) | Policy of denial | 88 FR [INSERT FR PAGE NUMBER AND 2/27/2023].
| —JSC NIIEI; and
| —JSC Scientific Research and Project-Technical Institute of Electrical Carbon Products.
| 1 Gorki Lane, Elektrougli, Moscow Oblast, 142455, Russia.
| Joint Stock Company Scientific Research Institute of Electronic and Mechanical Devices, a.k.a., the following four aliases: —AO NII Elektronno-Mekhanicheskikh Priborov; | For all items subject to the EAR. (See §§ 734.9(g),³ 746.8(a)(3), and 744.21(b) of the EAR) | Policy of denial | 88 FR [INSERT FR PAGE NUMBER AND 2/27/2023].
| —JSC NIIEMP;
| —JSC SRIEMI; and
| —Penza Scientific Research Institute of Electro-Mechanical Devices.
| 44 Karakozova Street, Penza, Penza Oblast, 440600, Russia.
| Joint Stock Company Scientific Research Institute of Electronic Engineering Materials, a.k.a., the following three aliases: —AO Nauchno-Issledovatelskiy Institut Materialov Elektronnoi Tekhniki; | For all items subject to the EAR. (See §§ 734.9(g),³ 746.8(a)(3), and 744.21(b) of the EAR) | Policy of denial | 88 FR [INSERT FR PAGE NUMBER AND 2/27/2023].
| —AO NIIMET; and
| —JSC NIIMET.
| 1 Gagarina Street, Kaluga, Kaluga Oblast, 248650, Russia; and 17 Second Academicheskiy Drive, Building 3G, Rooms 27-40, Kaluga, Kaluga Oblast, 248033, Russia.
| Joint Stock Company Scientific Research Institute of Gas Discharge Devices Plasma, a.k.a., the following three aliases: —AO Nauchno-Issledovatelskiy Institut Gazorazriyadnikh Priborov Plazma; | For all items subject to the EAR. (See §§ 734.9(g),³ 746.8(a)(3), and 744.21(b) of the EAR) | Policy of denial | 88 FR [INSERT FR PAGE NUMBER AND 2/27/2023].
| —AO Plasma; and
| —JSC Plasma.
| 24 Tsiolkovskogo Street, Ryazan, Ryazan Oblast, 390023, Russia.
| Joint Stock Company Scientific Research Institute of Industrial Television Rastr, a.k.a., the following two aliases: —AO Nauchno Issledovatelskii Institut Promyshlennogo Televideniya Rastr; and —AO NIIPT Rastr. 39 Bolshaya Sankt-Peterburgskaya Street, Veliky Novgorod, Novgorod Oblast, 173001, Russia. | For all items subject to the EAR. (See §§ 734.9(g),³ 746.8(a)(3), and 744.21(b) of the EAR) This license requirement may be overcome by License Exception GOV under § 740.11(b)(2) and (e) | Policy of denial for all items subject to the EAR apart from food and medicine designated as EAR99 and for items for U.S. Government supported use in the International Space Station (ISS), which will be reviewed on a case-by-case basis. See §§ 746.8(b) and 744.21(e) | 88 FR [INSERT FR PAGE NUMBER AND 2/27/2023].
| Joint Stock Company Scientific Research Institute of Precision Mechanical Engineering, a.k.a., the following six aliases: —AO Nauchno-Issledovatelskiy Institut Tochnogo Mashinostroeniya; | For all items subject to the EAR. (See §§ 734.9(g),³ 746.8(a)(3), and 744.21(b) of the EAR) | Policy of denial | 88 FR [INSERT FR PAGE NUMBER AND 2/27/2023].
| —AO NIITM;
| —NIITM PAO;
| —OJSC Scientific and Research Institute of Precision Engineering;
| —Research Institute of Precision Machine Manufacturing; and
| —Scientific and Research Institute of Precision Mechanical Engineering.
| 10 Panfilovsky Avenue, Zelenograd, Moscow, 124460, Russia.
| * * * * * *
| Joint Stock Company Shipbuilding Corporation Ak Bars, a.k.a., the following three aliases: —AO SK Ak Bars; —AO Sudostroyitelnaya Korporatsiya Ak Bars; and | For all items subject to the EAR. (See §§ 734.9(g),³ 746.8(a)(3), and 744.21(b) of the EAR) | Policy of denial | 88 FR [INSERT FR PAGE NUMBER AND 2/27/2023].
| —JSC SC Ak Bars.
| 9a, Zavodskaya Street, Zelenodolsk, Republic of Tatarstan, 422546, Russia; and 5 Zavodskaya Street, Zelenodolsk, Republic of Tatarstan, 422546, Russia.
| Joint Stock Company Special Design Bureau of Computer Engineering, a.k.a., the following two aliases: —AO Spetsialnoe Konstruktorskoe Byuro Vychislitelnoi Tekhniki; and | For all items subject to the EAR. (See §§ 734.9(g),³ 746.8(a)(3), and 744.21(b) of the EAR) | Policy of denial | 88 FR [INSERT FR PAGE NUMBER AND 2/27/2023].
| —AO SKB VT.
| 1 Maksima Gorkogo Street, Pskov, Pskov Oblast, 180007, Russia.
| Joint Stock Company Special Design Bureau of Control Means, a.k.a., the following two aliases: —AO Spetsialnoe Proektno-Konstruktorskoe Byuro Sredstv Upravleniya; and | For all items subject to the EAR. (See §§ 734.9(g),³ 746.8(a)(3), and 744.21(b) of the EAR) | Policy of denial | 88 FR [INSERT FR PAGE NUMBER AND 2/27/2023].
| —AO SPKB SU.
| 9 Vagzhanovski Lane, Office 315, Tver, Tver Oblast, 170100, Russia.
| Joint Stock Company Special Design Bureau Turbina, a.k.a., the following three aliases: —AO SKB Turbina; —AO Spetsialnoe Konstrucktorskoe Byuro Turbina; and | For all items subject to the EAR. (See §§ 734.9(g),³ 746.8(a)(3), and 744.21(b) of the EAR) | Policy of denial | 88 FR [INSERT FR PAGE NUMBER AND 2/27/2023].
| —JSC Turbina SDB.
| 2B Lenin Avenue, Chelyabinsk, Chelyabinsk Oblast, 454007, Russia.
| * * * * * *
| Joint Stock Company Special Relay System Design and Engineering Bureau, a.k.a., the following two aliases: —AO SKTB RT; and —AO Spetsialnoe Konstruktorsko-Tekhnologicheskoe Byuro Po Releinoi Tekhnike. | For all items subject to the EAR. (See §§ 734.9(g),³ 746.8(a)(3), and 744.21(b) of the EAR) | Policy of denial | 88 FR [INSERT FR PAGE NUMBER AND 2/27/2023].
| 55 Nekhinskaya Street, Veliky Novgorod, Novgorod Oblast, 173025, Russia.
| * * * * * *
| Joint Stock Company State Missile Center Named After Akademika V.P. Makeyeva, a.k.a, the following seven aliases: —JSC Gosudarstvenny Raketny Tsentr Imeni Akademika V.P. Makeeva; —JSC GRTS Makeyeva; —JSC Makeyev Design Bureau; —JSC State Rocket Center Named After Akademika V.P. Makeyeva; —Makeyev State Missile Center; —Makeyev State Rocket Center; and | For all items subject to the EAR. (See §§ 734.9(g),³ 746.8(a)(3), and 744.21(b) of the EAR) This license requirement may be overcome by License Exception GOV under § 740.11(b)(2) and (e) | Policy of denial for all items subject to the EAR apart from food and medicine designated as EAR99 and for items for U.S. Government supported use in the International Space Station (ISS), which will be reviewed on a case-by-case basis. See §§ 746.8(b) and 744.21(e) | 88 FR [INSERT FR PAGE NUMBER AND 2/27/2023].
| —Makeyev Rocket Design Bureau.
| 1 Turgoyakskoe Highway, Miass, Chelyabinsk Region, 456300, Russia.
| Joint Stock Company State Scientific Research Institute Kristall, a.k.a., the following four aliases: —AO GOSNII Kristall; —AO Gosudarstvenny Nauchno-Issledovatelski Institut Kristall; | For all items subject to the EAR. (See §§ 734.9(g),³ 746.8(a)(3), and 744.21(b) of the EAR) | Policy of denial | 88 FR [INSERT FR PAGE NUMBER AND 2/27/2023].
| —OAO GOSNII Kristall; and
| —OJSC Kristall State Research Institute.
| 6 Zelenaya Street, Dzerzhinsk, Nizhny Novgorod Oblast, 606007, Russia.
| Joint Stock Company Svetlana Semiconductors, a.k.a., the following two aliases: —AO Svetlana Poluprovodniki; and —Svetlana Semiconductors Stock Company. | For all items subject to the EAR. (See §§ 734.9(g),³ 746.8(a)(3), and 744.21(b) of the EAR) | Policy of denial | 88 FR [INSERT FR PAGE NUMBER AND 2/27/2023].
| 27, Engels Prospect, Saint Petersburg 194156, Russia; and 6 Akademika Valieva Street, Building 2, Floor/Premises 1/I, Room 28, Zelenograd, Moscow, 124460, Russia.
| Joint Stock Company Tekhnodinamika, a.k.a., the following three aliases: —AO Tekhnodinamika; —JSC Aviation Equipment; and —JSC Technodynamics. | For all items subject to the EAR. (See §§ 734.9(g),³ 746.8(a)(3), and 744.21(b) of the EAR) | Policy of denial | 88 FR [INSERT FR PAGE NUMBER AND 2/27/2023].
| 35 Bolshaya Tatarskaya Street, Building 5, Moscow, 115184, Russia.
| Joint Stock Company the Institute of Electronic Control Computers Named After I.S. Bruk, a.k.a., the following three aliases: —AO INEUM IM. I.S. Bruk; —Institut Elektronniykh Upravlyayushchikh Mashin IM. I.S. Bruka; and | For all items subject to the EAR. (See §§ 734.9(g),³ 746.8(a)(3), and 744.21(b) of the EAR) | Policy of denial | 88 FR [INSERT FR PAGE NUMBER AND 2/27/2023].
| —JSC INEUM.
| 24 Vavilova Street, Moscow, 119334, Russia.
| Joint Stock Company Vologda Optical and Mechanical Plant, a.k.a., the following four aliases: —AO Vologodsky Optiko Mekhanichesky Zavod, | For all items subject to the EAR. (See §§ 734.9(g),³ 746.8(a)(3), and 744.21(b) of the EAR) | Policy of denial | 88 FR [INSERT FR PAGE NUMBER AND 2/27/2023].
| —AO VOMZ;
| —JSC VOMZ; and
| —OAO VOMZ.
| 54 Maltseva Street, Vologda, Vologda Oblast, 160009, Russia.
| Joint Stock Company Voronezh Semiconductor Devices Factory Assembly, a.k.a., the following three aliases: —AO Voronezhsky Zavod Poluprovodnikovykh Priborov-Sborka; | For all items subject to the EAR. (See §§ 734.9(g),³ 746.8(a)(3), and 744.21(b) of the EAR) | Policy of denial | 88 FR [INSERT FR PAGE NUMBER AND 2/27/2023].
| —AO VZPP-S; and
| —JSC VZPP-S.
| 119a Leninsky Avenue, Voronezh, Voronezh Oblast, 394033, Russia; and 119a Leninsky Avenue, Voronezh, Voronezh Oblast, 394007, Russia.
| * * * * * *
| Joint Stock Company Vyatka Machine-Building Enterprise Avitek, a.k.a., the following five aliases: —AO VMP AVITEK; —Avitek Vyatskoe Machine Building Enterprise JSC; | For all items subject to the EAR. (See §§ 734.9(g),³ 746.8(a)(3), and 744.21(b) of the EAR) | Policy of denial | 88 FR [INSERT FR PAGE NUMBER AND 2/27/2023].
| —JSC VMP AVITEC;
| —JSC Vyatskoe Mashinostroitelnoe Predpriyatie Avitek; and
| —Vyatka Machinery Plant Avitec JSC.
| 1A Oktyabrskiy Avenue, Kirov, Kirov Oblast, 610047, Russia.
| * * * * * *
| Joint Stock Company Zelenograd Nanotechnology Center, a.k.a., the following three aliases: | For all items subject to the EAR. (See § 744.11 of the EAR) | Policy of denial | 88 FR [INSERT FR PAGE NUMBER AND 2/27/2023].
| —AO ZNTTS;
| —AO Zelenogradski Nanotekhnologicheski Tsentr; and
| —ZNTC.
| 6 Solnechnaya Alley, Premises IX, Office 17, Zelenograd, Moscow, 124527, Russia.
| * * * * * *
| KAMAZ Publicly Traded Company, a.k.a., the following four aliases: —KAMAZ PJSC; —KAMAZ PAO; | For all items subject to the EAR. (See §§ 734.9(g),³ 746.8(a)(3), and 744.21(b) of the EAR) | Policy of denial | 88 FR [INSERT FR PAGE NUMBER AND 2/27/2023].
| —KAMAZ PTC; and
| —Kamskoe Obedinenie PO Proizvodstvu Bolshegruznykh Avtomobilei Kamaz.
| 2 Avtozavodskiy Avenue, Naberezhnye Chelny, Republic of Tatarstan, 423827, Russia.
| * * * * * *
| Keldysh Institute of Applied Mathematics of the Russian Academy of Sciences, a.k.a., the following three aliases: —Federalnoe Gosudarstvennoe Uchrezhdenie Federalny Issledovatelski Tsentr Institut Prikladnoi Metematiki I.M. Keldysha Rossiiskoi Akademii Nauk; | For all items subject to the EAR. (See §§ 734.9(g),³ 746.8(a)(3), and 744.21(b) of the EAR) | Policy of denial | 88 FR [INSERT FR PAGE NUMBER AND 2/27/2023].
| —IPM IM. M.V. Keldisha RAN; and
| —KIAM RAS.
| 4 Miusskaya Square, Moscow, 125047, Russia.
| * * * * * *
| Limited Liability Company Research and Production Association Radiovolna, a.k.a., the following three aliases: —LLC NPO Radiovolna; —OOO Nauchno-Proizvodstvennoe Obedinenie Radiovolna; and | For all items subject to the EAR. (See §§ 734.9(g),³ 746.8(a)(3), and 744.21(b) of the EAR) | Policy of denial | 88 FR [INSERT FR PAGE NUMBER AND 2/27/2023].
| —OOO NPO Radiovolna.
| 3 22nd Liniya, Building 1M, Premises 1N, Office 618, Vasilevskiy Island, Municipal District No. 7, Saint Petersburg, 199106, Russia; and 1-3P Kozhevennaya Liniya, Premises 1N, Saint Petersburg, 199106, Russia; and 55 Kingiseppskoe Highway, Avtovo, St Petersburg, 198320, Russia.
| Limited Liability Company RSB-Group, a.k.a., the following four aliases: —LLC Intelligence Technologies; —OOO RSB-Grupp; | For all items subject to the EAR. (See §§ 734.9(g),³ 746.8(a)(3), and 744.21(b) of the EAR) | Policy of denial | 88 FR [INSERT FR PAGE NUMBER AND 2/27/2023].
| —Razvedyvatelnye Tekhnologii OOO; and
| —Russian Security Systems.
| 3 Dnepropetrovskaya Street, Building 5, Floor 1, Premises III, Room 8, Office 6-6, Moscow, 117525, Russia.
| * * * * * *
| Meteor Plant JSC, a.k.a., the following two aliases: —AO Zavod Meteor; and —Joint Stock Company Meteor Plant. 1 Gorkogo Street Volzhskiy, Volgograd Oblast, 404130, Russia. | For all items subject to the EAR. (See §§ 734.9(g),³ 746.8(a)(3), and 744.21(b) of the EAR) | Policy of denial | 87 FR 20299, 4/7/22. 87 FR 34136, 6/6/22. 88 FR [INSERT FR PAGE NUMBER AND 2/27/2023].
| * * * * * *
| Mitishinskiy Scientific Research Institute of Radio Measuring Instruments, a.k.a., the following seven aliases: —Federalnoe Gosudarstvennoe Byudzhetnoe Uchrezhdenie Vserossiiskii Nauchno-Issledovatelskii Institut Radioelektroniki; | For all items subject to the EAR. (See §§ 734.9(g),³ 746.8(a)(3), and 744.21(b) of the EAR) | Policy of denial | 88 FR [INSERT FR PAGE NUMBER AND 2/27/2023].
| —Federal State Unitary Enterprise MNIIRIP;
| —FGBU VNIIR;
| —FGBU Vserossiiskii Nauchno-Issledovatelskii Institut Radioelektroniki;
| —FGUP MNIIRIP,
| —FSBI VNIIR; and
| —Mytishchi Research Institute for RF Measurement Instruments.
| 2A Kolpakova Street, Building B1, Floor 3, Office 86,87, Mytishchi, Moscow Oblast, 141002, Russia.
| * * * * * *
| Moscow Institute of Thermal Technology, a.k.a., the following four aliases: —AO Koporatsiya Moskovskiy Institut Teplotekhniki; —JSC Corporation MIHT; | For all items subject to the EAR. (See §§ 734.9(g),³ 746.8(a)(3), and 744.21(b) of the EAR) | Policy of denial | 87 FR 60066, 10/4/22. 88 FR [INSERT FR PAGE NUMBER AND 2/27/2023].
| —JSC Corporation Moscow Institute of Heat Technology; and
| —MITT.
| 10 Berezovaya Alley, Moscow, 127273, Russia.
| * * * * * *
| Obninsk Research and Production Enterprise (ORPE), a.k.a., the following four aliases: —AO Obninskoe NPP Tekhnologiya IM. A.G. Romashina; —AO ONPP Tekhnologiya IM. A.G. Romashina; | For all items subject to the EAR. (See §§ 734.9(g),³ 746.8(a)(3), and 744.21(b) of the EAR) | Policy of denial | 83 FR 48534, 9/26/18. 84 FR 40241, 8/14/19. 88 FR [INSERT FR PAGE NUMBER AND 2/27/2023].
| —Joint Stock Company Obninsk Research and Production Enterprise Technologiya Named After A.G. Romashin; and
| —JSC ORPE Technology Named After A.G. Romashin.
| 15 Kievskoe Highway, Obninsk, Kaluga Oblast, 249031, Russia.
| * * * * * *
| OOO Adis, 48 Prospekt Makeeva, Miass, Chelyabinskaya Oblast, 4563200, Russia. | For all items subject to the EAR. (See § 744.11 of the EAR) | Presumption of denial | 88 FR [INSERT FR PAGE NUMBER AND 2/27/2023].
| * * * * * *
| Open Joint Stock Company Ilyushin Aviation Complex, a.k.a., the following nine aliases: —AK Imeni S.V. Ilyshina AO; —JSC Ilyushin Aviation Complex; | For all items subject to the EAR. (See §§ 734.9(g),³ 746.8(a)(3), and 744.21(b) of the EAR) | Policy of denial | 88 FR [INSERT FR PAGE NUMBER AND 2/27/2023].
| —OAO Ilyushin Aviation Complex;
| —OJSC IL;
| —OJSC Ilyushin Aviation Complex;
| —PAO Aviatsionny Kompleks IM. S.V. Ilyushin a;
| —PAO IL;
| —PJSC IL; and
| —PJSC Ilyushin Aviation Complex.
| 45G Leningradsky Avenue, Moscow, 125190, Russia.
| * * * * * *
| Open Joint Stock Company Khabarovsk Radio Engineering Plant, a.k.a., the following five aliases: —AO Khabarovskiy Radiotekhnicheskiy Zavod; | For all items subject to the EAR. (See §§ 734.9(g),³ 746.8(a)(3), and 744.21(b) of the EAR) | Policy of denial | 88 FR [INSERT FR PAGE NUMBER AND 2/27/2023].
| —AO KHRTZ
| —JSC Khabarovsk Radio Engineering Plant;
| —KHRTZ PAO; and
| —OAO KHRTZ.
| 8 Kedrovy Lane, Building V, Khabarovsk, Khabarovsk Territory, 680041, Russia.
| * * * * * *
| Open Joint Stock Company Mariyskiy Machine-Building Plant, a.k.a., the following six aliases: —AO Mariyskiy Mashinostroitelnyi Zavod; —AO MMZ; | For all items subject to the EAR. (See §§ 734.9(g),³ 746.8(a)(3), and 744.21(b) of the EAR) | Policy of denial | 88 FR [INSERT FR PAGE NUMBER AND 2/27/2023].
| —JSC Mari Machine Building Plant;
| —MARI MMZ;
| —OAO Mariyskiy Mashinostroitelnyy Zavod; and
| —OAO MMZ.
| 15 Suvorova Street, Yoshkar-Ola, Republic of Mari-El, 424003, Russia.
| * * * * * *
| Open Joint Stock Company Scientific and Production Enterprise Pulsar, a.k.a., the following seven aliases: —AO Nauchno-Proizvodstvennoe Predpriyatie Pulsar; | For all items subject to the EAR. (See §§ 734.9(g),³ 746.8(a)(3), and 744.21(b) of the EAR) | Policy of denial | 88 FR [INSERT FR PAGE NUMBER AND 2/27/2023].
| —AO NPP Pulsar;
| —Enterprise SPE Pulsar JSC;
| —JSC NPP Pulsar;
| —JSC SPC Pulsar;
| —OAO NPP Pulsar; and
| —SPE Pulsar.
| 27 Okruzhnoy Drive, Moscow, 105187, Russia.
| * * * * * *
| Papilon Systems Limited Liability Company, a.k.a., the following one alias: —OOO Sistemy Papilon. | For all items subject to the EAR. (See § 744.11 of the EAR) | Presumption of denial | 88 FR [INSERT FR PAGE NUMBER AND 2/27/2023].
| 48 Prospekt Makeeva, Miass, Chelyabinskaya Oblast, 4563200, Russia.
| * * * * * *
| Public Joint Stock Company Kremny, a.k.a., the following five aliases: —AO Gruppa Kremny EL; —CJSC Kremny AI Group; | For all items subject to the EAR. (See § 744.11 of the EAR) | Policy of denial | 88 FR [INSERT FR PAGE NUMBER AND 2/27/2023].
| —JSC Gruppa Kremny EL;
| —Kremny Marketing;
| —Kremny Group; and
| —PAO Kremni.
| 103 Krasnoarmeyskaya Street, Bryansk, Bryansk Oblast, 241037, Russia.
| Public Joint Stock Company Megafon, a.k.a., the following three aliases: —Megafon; —PAO Megafon; and | For all items subject to the EAR. (See §§ 734.9(g),³ 746.8(a)(3), and 744.21(b) of the EAR) | Policy of denial | 88 FR [INSERT FR PAGE NUMBER AND 2/27/2023].
| —PJSC Megafon.
| 41 Oruzheiny Lane, Moscow, 127006, Russia.
| Public Joint Stock Company Tutaev Motor Plant, a.k.a., the following three aliases: —OAO Tutaevski Motorny Zavod; —PAO TMZ; and | For all items subject to the EAR. (See §§ 734.9(g),³ 746.8(a)(3), and 744.21(b) of the EAR) | Policy of denial | 88 FR [INSERT FR PAGE NUMBER AND 2/27/2023].
| —PAO Tutaevski Motorny Zavod.
| 1 Stroitelei Street, Tutayev, Yaroslavl Oblast, 152303, Russia.
| * * * * * *
| Public Joint Stock Company Vympel Interstate Corporation, a.k.a., the following six aliases: —JSC MAC Vympel; —PAO MAK Vympel; | For all items subject to the EAR. (See §§ 734.9(g),³ 746.8(a)(3), and 744.21(b) of the EAR) | Policy of denial | 88 FR [INSERT FR PAGE NUMBER AND 2/27/2023].
| —PAO Mezhgosudarstvennaya Aktsionernaya Korporatsiya Vympel;
| —Vimpel;
| —Vympel Interstate Commercial Corporation; and
| —Vympel MAK PAO Defense Corporation.
| 10 Geroyev Panfilovtsev Street, Building 1, Moscow, 125480, Russia.
| * * * * * *
| RT-Inform Limited Liability Company, a.k.a., the following one alias: —OOO RT-Inform. 6 Turchaninov Lane, Building 2, Office 105, Moscow, 119048, Russia; and 23 Savvinskaya Embankment, Building 2, Office 613, Moscow, 119435, Russia. | For all items subject to the EAR. (See §§ 734.9(g),³ 746.8(a)(3), and 744.21(b) of the EAR) | Policy of denial | 88 FR [INSERT FR PAGE NUMBER AND 2/27/2023].
| * * * * * *
| Skolkovo Foundation, a.k.a., the following four aliases: —Foundation for the Development of the Center for Elaboration and Commercialization of New Technologies; | For all items subject to the EAR. (See §§ 734.9(g),³ 746.8(a)(3), and 744.21(b) of the EAR) | Policy of denial | 88 FR [INSERT FR PAGE NUMBER AND 2/27/2023].
| —Fond Skolkovo;
| —Fund Skolkovo; and
| —Nekommercheskaya Organizatsiya Fond Razvitiya Tsentra Razrabortki I Kommertsializatsii Novykh Tekhnologii.
| 4 Lugovaya Street, Skolkovo Innovation Center, Moscow, 121205, Russia; and 5 Nobelya Street, Skolkovo Innovation Center, Moscow, 121205, Russia.
| Skolkovo Institute of Science and Technology, a.k.a., the following three aliases: —Autonomous Non-Profit Organization for Higher Education Skolkovo Institute of Science and Technology; | For all items subject to the EAR. (See §§ 734.9(g),³ 746.8(a)(3), and 744.21(b) of the EAR) | Policy of denial | 88 FR [INSERT FR PAGE NUMBER AND 2/27/2023].
| —Skolkovskiy Institut Nauki I Tekhnologii; and
| —Skoltech.
| 30 Bolshoi Boulevard, Skolkovo Innovation Center, Building 1, Moscow, 121205, Russia.
| * * * * * *
| State Flight Testing Center Named After V.P. Chkalov, a.k.a., the following five aliases: —929 GLITS; —929 State Flight Test Center; | For all items subject to the EAR. (See §§ 734.9(g),³ 746.8(a)(3), and 744.21(b) of the EAR) | Policy of denial | 88 FR [INSERT FR PAGE NUMBER AND 2/27/2023].
| —929 GLITS VVS;
| —929 Gosudarstvenniy Letno-Ispytatelniy Tsentr Ministerstvo Oboroni Rossiiskoi Federatsii IM. V.P. Chkalova; and
| —GLITS MO RF IM. V.P. Ckhalova.
| Akhtubinsk, Astrakhan Oblast, 416500, Russia; and Chkalovsky Airfield, Russia.
| * * * * * *
| Technopark Skolkovo Limited Liability Company, a.k.a., the following two aliases: —LLC Science and Technology Park Skolkovo; and | For all items subject to the EAR. (See § 744.11 of the EAR) | Policy of denial | 88 FR [INSERT FR PAGE NUMBER AND 2/27/2023].
| —OOO Tekhnopark Skolkovo.
| 42 Bolshoi Boulevard, Building 1, Floor 2, Premises 822, Skolkovo Innovation Center, Moscow, 121205, Russia; and 42 Bolshoy Bulvar 42, Building 1, Office 502, Moscow, 121205, Russia.
| * * * * * *
| VisionLabs Limited Liability Company, a.k.a., the following two aliases: —OOO Vizhnlabs; and —VisionLabs. | For all items subject to the EAR. (See § 744.11 of the EAR) | Policy of denial | 88 FR [INSERT FR PAGE NUMBER AND 2/27/2023].
| 8 Tvardovskogo Street, Building 1, Floor 2, Premises I, Office 1, Moscow, 123458, Russia; and 23 Podsosenskiy Lane, Building 3, Moscow, 105062, Russia.
| * * * * * *
* * * * * * *

* * * * *

Thea D. Rozman Kendler,
Assistant Secretary for Export Administration.

[FR Doc. 2023-04099 Filed 2-24-23; 8:45 am]

BILLING CODE 3510-JT-P